NATIONAL SCIENCE FOUNDATION

Proposal Review Panel for Materials Research; Notice of Meeting

In accordance with the Federal Advisory Committee Act (Pub. L. 92-463, as amended), the National Science Foundation (NSF) announces the following meeting:

Name and Committee Code: Site visit review of a Materials Innovation Platform on BioPolymers, Automated Cellular Infrastructure, Flow, and Integrated Chemistry (BioPACIFIC MIP) by the NSF Division of Materials Research (DMR) (#1203).

Date and Time: January 9, 2023; 8:00 a.m.-6:00 p.m. PT, January 10, 2023; 8:00 a.m.-3:00 p.m. PT.

Place: University of California (Los Angeles), 590 Westwood Plaza, Los Angeles, CA 90095.

Type of Meeting: Part-open.

Contact Person: Z. Charles Ying, Program Director, Division of Materials Research, National Science Foundation, 2415 Eisenhower Avenue, Alexandria, VA 22314, Telephone (703) 292-8428.

Purpose of Meeting: Site visit to provide advice and recommendations concerning further support of the BioPACIFIC at University of California.

Agenda

Monday, January 9, 2023

8:00 a.m.-8:30 a.m. Closed—Executive Session

8:30 a.m.-11:30 a.m. Open—Review of GlycoMIP

11:30 a.m.-12:30 p.m. Closed—Executive Session

12:30 p.m.-4:00 p.m. Open—Review of GlycoMIP

4:00 p.m.-6:00 p.m. Closed—Executive Session

Tuesday, January 10, 2023

8:00 a.m.-3:00 p.m. Closed—Executive Session

Reason for Closing: Topics to be discussed and evaluated during the site review will include information of a proprietary or confidential nature, including technical information; and information on personnel. These matters are exempt under 5 U.S.C. 552b(c), (4) and (6) of the Government in the Sunshine Act.

Dated: December 12, 2022.
Crystal Robinson,
Committee Management Officer.

[FR Doc. 2022-27189 Filed 12-14-22; 8:45 am]

BILLING CODE 7555-01-P